NUCLEAR REGULATORY COMMISSION

Advisory Committee on the Medical Uses of Isotopes; Call for Nominations

AGENCY: U.S. Nuclear Regulatory Commission.

ACTION: Call for Nominations.

SUMMARY: The U.S. Nuclear Regulatory Commission (NRC) is advertising for nominations for the position of Nuclear Pharmacist on the Advisory Committee on the Medical Uses of Isotopes (ACMUI). Nominees should be a currently practicing nuclear pharmacist.

DATES: Nominations are due on or before June 8, 2015.

NOMINATION PROCESS: Submit an electronic copy of resume or curriculum vitae to Ms. Sophie Holiday, Sophie.Holiday@nrc.gov. Please ensure that the resume or curriculum vitae includes the following information, if applicable: Education; certification; professional association membership and committee membership activities; duties and responsibilities in current and previous clinical, research, and/or academic position(s).

FOR FURTHER INFORMATION CONTACT: Ms. Sophie Holiday, U.S. Nuclear Regulatory Commission, Office of Nuclear Material Safety and Safeguards; telephone (404) 997-4691; email: Sophie.Holiday@nrc.gov.

SUPPLEMENTARY INFORMATION: The ACMUI Nuclear Pharmacist provides advice on issues associated with the regulation of nuclear pharmacy applications of byproduct material. This advice includes providing input on NRC proposed rules and guidance, providing recommendations on the training and experience requirements for Authorized Nuclear Pharmacists, identifying medical events associated with these uses, evaluating non-routine uses of byproduct material, bringing key issues in the nuclear pharmacy community to the attention of NRC staff, as they relate to radiopharmaceuticals, radiation safety and NRC medical-use policy.

ACMUI members are selected based on their educational background, certification(s), work experience, involvement and/or leadership in professional society activities, and other information obtained in letters or during the selection process.

ACMUI members possess the medical and technical skills needed to address evolving issues. The current membership is comprised of the following professionals: (a) Nuclear medicine physician; (b) nuclear cardiologist; (c) two radiation oncologists; (d) diagnostic radiologist; (e) therapy medical physicist; (f) nuclear medicine physicist; (g) nuclear pharmacist; (h) health care administrator; (i) radiation safety officer; (j) patients' rights advocate; (k) Food and Drug Administration representative; and (l) Agreement State representative.

NRC is inviting nominations for the Nuclear Pharmacist to the ACMUI. The term of the individual currently occupying this position will end March 29, 2016. Committee members currently serve a four-year term and may be considered for reappointment to an additional term.

Nominees must be U.S. citizens and be able to devote approximately 160 hours per year to Committee business. Members who are not Federal employees are compensated for their service. In addition, members are reimbursed for travel (including per-diem in lieu of subsistence) and are reimbursed secretarial and correspondence expenses. Full-time Federal employees are reimbursed travel expenses only.

Security Background Check: The selected nominee will undergo a thorough security background check. Security paperwork may take the nominee several weeks to complete. Nominees will also be required to complete a financial disclosure statement to avoid conflicts of interest.

Dated at Rockville, Maryland, this 1st day of April, 2015.
For the U.S. Nuclear Regulatory Commission.
Andrew L. Bates,
Advisory Committee Management Officer.

[FR Doc. 2015-07993 Filed 4-6-15; 8:45 am]

BILLING CODE CODE 7590-01-P